ENVIRONMENTAL PROTECTION AGENCY

[ER-FRL-9000-2]

Environmental Impacts Statements; Notice of Availability

Responsible Agency: Office of Federal Activities, General Information (202) 564-1399 or http://www.epa.gov/compliance/nepa/.

Weekly receipt of Environmental Impact Statements

Filed 11/14/2011 through 11/18/2011.

Pursuant to 40 CFR 1506.9.

Notice

Section 309(a) of the Clean Air Act requires that EPA make public its comments on EISs issued by other Federal agencies. EPA's comment letters on EIS are available at: http://www.epa.gov/compliance/nepa/eisdata.html.

EIS No. 20110393, Draft EIS, BLM, 00, Baker Field Office Resource Management Plan, Implementation, Baker, Union, Wallowa, Malheur, Morrow and Umatilla Counties, OR and Asotin County, WA, Comment Period Ends: 02/22/2012, Contact: Marc Pierce (541) 523-1256.

EIS No. 20110394, Draft EIS, NPS, 00, Appalachian National Scenic Trail, Delaware Water Gap National Recreation Area, Middle Delaware National Scenic and Recreational River, Proposal Susquehanna to Roseland 500kV Transmission Line Right-of-Way and Special-Use-Permit, NJ and PA, Comment Period Ends: 01/23/2012, Contact: Morgan Elmer (303) 969-2317.

EIS No. 20110395, Draft Supplement, FHWA, 00, Louisville-Southern Indiana Ohio River Bridges Projects, New Circumstances, Cross-River Mobility Improvements between Jefferson County, KY and Clark County, IN, Coast Guard Bridge Permit, COE Section 10 and 404 Permits, Jefferson County, KY and Clark County, IN, Comment Period Ends: 01/09/2012, Contact: Janice Osadczuk (317) 226-7486.

EIS No. 20110396, Final EIS, NOAA, 00, Comprehensive Annual Catch Limit (ACL) Amendment for the South Atlantic Regions: Amendment 2 to the Fishery Management Plan for the Dolphin Wahoo Fishery; Amendment 2 to the Fishery Management Plan for Pelagic Sargassum Habitat; Amendment 5 to the Fishery Management Plan for the Golden Crab Fishery and Amendment 25 to the Fishery Management Plan for the Snapper Grouper Fishery, South Atlantic Region, Review Period Ends: 12/27/2011, Contact: Roy E. Crabtree (727) 824-5305.

EIS No. 20110397, Draft EIS, USFS, CO,Beaver Creek Mountain Improvement Project, Improvement to Birds of Prey Racecourse, Widening and Grading the Addition of Women's Downhill and Giant Slalom Racecourses, New and Replaced Snowmaking Infrastructure, Replacement of the Red Tail Camp Restaurant, White River National Forest, Eagle County, CO, Comment Period Ends: 01/09/2012, Contact: Scott Fitzwilliams (970) 945-3255.

EIS No. 20110398, Final EIS, FRBSF, WA,1015 Second Avenue Property, Involving Disposition of the Property Either Through Transfer, Donations, or Sale, Downtown Seattle, WA, Review Period Ends: 12/27/2011, Contact: Robert Kellar (415) 974-2655.

EIS No. 20110399, Draft EIS, NHTSA, 00, Corporate Average Fuel Economy (CAFE) Standards Passenger Car and Light Trucks Model Years 2017-2025, To Improve the Fuel Economy of and Reduce Greenhouse Gas Emissions from Model Year 2017-2025 Light-Duty Vehicles, Implementation, Comment Period Ends: 01/31/2012, Contact: Angel Jackson (202) 366-0154.

EIS No. 20110400, Draft EIS, BIA, NV,K Road Moapa Solar Generation Facility, Moapa Band of Paiutes (Tribe), to lease Land up to 50 Years on the Moapa River Indian Reservation for Constructing and Operating a 350MV PV Solar Generating Station and Associated Infrastructure, Clark County, NV, Comment Period Ends: 01/09/2012, Contact: Amy Heuslein (602) 379-6570.

EIS No. 20110401, Final EIS, STB, PA,R.J. Corman Railroad/Pennsylvania Lines Project, Construction, Operation, and Reactivation to Approximately 20 Miles of Railline in Clearfield and Centre Counties, PA, Review Period Ends: 12/27/2011, Contact: Danielle Gossolin (202) 245-0300.

Amended Notices

EIS No. 20110328, Draft EIS, NPS, CA, Drakes Bay Oyster Company (DBOC) Special Use Permit (SUP) for the Period of 10 Years for its Shellfish Operation, which Consists of Commercial Production, Harvesting, Processing, and Sale of Shellfish at Point Reyes National Seashore, CA, Comment Period Ends: 12/09/2011, Contact: Cicely Muldoon (415) 464-5101.

This document is available on the Internet at: http://parkplanning.nps.gov/document.cfm?parkID=333&projectID=33043&documentID=43390.

Revision to FR Notice 9/30/2011: Extending Comment Period from

11/29/2011 to 12/09/2011.

Dated: November 21, 2011.
Cliff Rader,
Acting Director, NEPA Compliance Division, Office of Federal Activities.

[FR Doc. 2011-30363 Filed 11-23-11; 8:45 am]

BILLING CODE 6560-50-P